SMALL BUSINESS ADMINISTRATION

Disaster Declaration #12699 and #12700

Puerto Rico Disaster Number PR-00013

AGENCY: U.S. Small Business Administration.

ACTION: Amendment 1.

SUMMARY: This is an amendment of the Presidential declaration of a major disaster for Public Assistance Only for the State of Puerto Rico (FEMA-4004-DR), dated 07/14/2011.

Incident: Severe Storms, Flooding, Mudslides, and Landslides.

Incident Period: 05/20/2011 through 06/08/2011.

DATES: Effective Date: 07/28/2011.

Physical Loan Application Deadline Date: 09/12/2011.

Economic Injury (EIDL) Loan Application Deadline Date: 04/16/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of PUERTO RICO, dated 07/14/2011, is hereby amended to include the following areas as adversely affected by the disaster.

Primary Counties: Yabucoa.

All other information in the original declaration remains unchanged.

(Catalog of Federal Domestic Assistance Numbers 59002 and 59008)

James E. Rivera,
Associate Administrator for Disaster Assistance.

[FR Doc. 2011-19789 Filed 8-3-11; 8:45 am]

BILLING CODE 8025-01-P